DEPARTMENT OF TRANSPORTATION

Federal Aviation Administration

Notice of Intent To Rule on Request To Release Airport Land at San Bernardino International Airport, San Bernardino, CA

AGENCY: Federal Aviation Administration, Department of Transportation.

ACTION: Notice of Request to Release Airport Land.

SUMMARY: The Federal Aviation Administration (FAA) proposes to rule and invites public comment on the release of approximately 49.90 acres of airport property at San Bernardino International Airport, San Bernardino, California, from all restrictions of the surplus property agreement since the land is not needed for airport purposes. Reuse of the land for commercial/light industrial purposes represents a compatible land use. Disposal of the property will provide an opportunity to acquire additional land that is needed to enhance safety and meet airport design standards.

DATES: Comments must be received on or before February 11, 2005.

ADDRESSES: Comments on this application may be mailed or delivered in triplicate to the FAA at the following address: Federal Aviation Administration, Airports Division, Federal Register Comment, 15000 Aviation Blvd., Lawndale, CA 90261. In addition, one copy of the comment submitted to the FAA must be mailed or delivered to Donald L. Rogers, Interim Executive Director, San Bernardino International Airport Authority, Inland Valley Development Agency, 294 S. Leland Norton Way, Suite 1, San Bernardino, CA 92408-0131.

FOR FURTHER INFORMATION CONTACT: Tony Garcia, Airports Compliance Specialist, Federal Aviation Administration, Airports Division, 15000 Aviation Blvd., Lawndale, California 90261, telephone (310) 725-3634 and FAX (310) 725-6849. The request to release airport property may be reviewed in person by appointment at this same location or at San Bernardino International Airport, San Bernardino, California.

SUPPLEMENTARY INFORMATION: In accordance with the Wendell H. Ford Aviation Investment and Reform Act for the 21st Century (AIR 21), Pub. L. 10-181 (Apr. 5, 2000; 114 Stat. 61), this notice must be published in the Federal Register 30 days before the Secretary may waive any condition imposed on a federally obligated airport's interest in surplus property.

The following is a brief overview of the request:

The San Bernardino International Airport Authority (SBIAA) requested a release from surplus property agreement obligations for approximately 49.90 acres of airport land consisting of five parcels at San Bernardino International Airport, San Bernardino, California, originally granted to them for airport purposes by the United States Air Force due to the closure of the former Norton Air Force Base. Three of the parcels are located on the west side, the fourth parcel is located northwest of the airfield and the fifth parcel is located on the east side of the airport property. The parcels are not contiguous or easily accessible to the airfield and are not required for aeronautical purposes. The property's redevelopment for non-aeronautical purposes will comply with local zoning and compatible land-use requirements. The parcels will be disposed of at fair market value based on the land's appraised value. The value of the land will be used to acquire additional land, which is needed for approach and encroachment protection, to enhance airport safety, and to comply with airport design standards. The land disposal and acquisition will provide a direct benefit to the airport and civil aviation.

Issued in Hawthorne, California, on December 20, 2004.
George Aiken,
Manager, Safety and Standards Branch, Airports Division, Western-Pacific Region.

[FR Doc. 05-556 Filed 1-11-05; 8:45 am]

BILLING CODE 4910-15-M